DEPARTMENT OF TRANSPORTATION

Federal Aviation Administration

14 CFR Part 39

[Docket No. FAA-2010-0126; Directorate Identifier 2010-NM-015-AD; Amendment 39-16209; AD 2010-04-16]

RIN 2120-AA64

Airworthiness Directives; SICLI Halon 1211 Portable Fire Extinguishers as Installed on Various Airplanes and Rotorcraft

AGENCY: Federal Aviation Administration (FAA), Department of Transportation (DOT).

ACTION: Final rule; request for comments.

SUMMARY: We are adopting a new airworthiness directive (AD) for the products listed above. This AD results from mandatory continuing airworthiness information (MCAI) originated by an aviation authority of another country to identify and correct an unsafe condition on an aviation product. The MCAI describes the unsafe condition as:

The Civil Aviation Authority of the United Kingdom (UK) has informed EASA [European Aviation Safety Agency] that significant quantities of Halon 1211 gas, determined to be outside the required specification, have been supplied to the aviation industry for use in fire extinguishing equipment. * * *

* * * * *

* * * This Halon 1211 has subsequently been used to fill P/N [part number] 1708337B4 portable fire extinguishers that are now likely to be installed in or carried on board aircraft.

The contaminated nature of this gas, when used against a fire, may provide reduced fire suppression, endangering the safety of the aircraft and its occupants. In addition, extinguisher activation may lead to release of toxic fumes, possibly causing injury to aircraft occupants.

* * * * *

This AD requires actions that are intended to address the unsafe condition described in the MCAI.

DATES: This AD becomes effective March 8, 2010.

We must receive comments on this AD by April 5, 2010.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-40, 1200 New Jersey Avenue, SE., Washington, DC, between 9 a.m. and 5 p.m., Monday through Friday, except Federal holidays.

Examining the AD Docket

You may examine the AD docket on the Internet at http://www.regulations.gov; or in person at the Docket Operations office between 9 a.m. and 5 p.m., Monday through Friday, except Federal holidays. The AD docket contains this AD, the regulatory evaluation, any comments received, and other information. The street address for the Docket Operations office (telephone (800) 647-5527) is in the ADDRESSES section. Comments will be available in the AD docket shortly after receipt.

FOR FURTHER INFORMATION CONTACT: For transport airplanes: Dan Rodina, Aerospace Engineer, International Branch, ANM-116, Transport Airplane Directorate, FAA, 1601 Lind Avenue, SW., Renton, Washington 98057-3356; telephone (425) 227-2125; fax (425) 227-1149.

For small airplanes: Leslie B. Taylor, Aerospace Engineer, Standards Staff, Small Airplane Directorate, FAA, 901 Locust Street, Room 301, Kansas City, MO 64106; telephone (816) 329-4134; fax (816) 329-4090.

For rotorcraft: DOT/FAA Southwest Region, J.R. Holton, Jr., ASW-112, Aviation Safety Engineer, Rotorcraft Directorate, Safety Management Group, 2601 Meacham Blvd., Fort Worth, TX 76137; telephone (817) 222-4964; fax (817) 222-5961.

SUPPLEMENTARY INFORMATION:

Discussion

The European Aviation Safety Agency (EASA), which is the Technical Agent for the Member States of the European Community, has issued Airworthiness Directive 2009-0278, dated December 22, 2009, (referred to after this as “the MCAI”), to correct an unsafe condition for the specified products. The MCAI states:

The Civil Aviation Authority of the United Kingdom (UK) has informed EASA that significant quantities of Halon 1211 gas, determined to be outside the required specification, have been supplied to the aviation industry for use in fire extinguishing equipment. Halon 1211 (BCF) is used in portable fire extinguishers, usually fitted or stowed in aircraft passenger cabins and flight decks.

EASA published Safety Information Bulletin (SIB) 2009-39 on 23 October 2009 to make the aviation community aware of this safety concern.

The results of the ongoing investigation have now established that LyonTech Engineering Ltd, a UK-based company, has supplied further consignments of Halon 1211 (BCF) to SICLI that do not meet the required specification. This Halon 1211 has subsequently been used to fill P/N [part number] 1708337B4 portable fire extinguishers that are now likely to be installed in or carried on board aircraft.

The contaminated nature of this gas, when used against a fire, may provide reduced fire suppression, endangering the safety of the aircraft and its occupants. In addition, extinguisher activation may lead to release of toxic fumes, possibly causing injury to aircraft occupants.

For the reason described above, this EASA AD requires the identification and removal from service of certain batches of fire extinguishers and replacement with serviceable units.

You may obtain further information by examining the MCAI in the AD docket.

FAA's Determination and Requirements of This AD

This product has been approved by the aviation authority of another country, and is approved for operation in the United States. Pursuant to our bilateral agreement with the State of Design Authority, we have been notified of the unsafe condition described in the MCAI and service information referenced above. We are issuing this AD because we evaluated all pertinent information and determined the unsafe condition exists and is likely to exist or develop on other products of the same type design.

Differences Between the AD and the MCAI

We have reviewed the MCAI and, in general, agree with their substance. But we might have found it necessary to use different words from those in the MCAI to ensure the AD is clear for U.S. operators and is enforceable. In making these changes, we do not intend to differ substantively from the information provided in the MCAI and related service information.

We might also have required different actions in this AD from those in the MCAI in order to follow FAA policies. Any such differences are highlighted in a Note within the AD.

FAA's Determination of the Effective Date

An unsafe condition exists that requires the immediate adoption of this AD. The FAA has found that the risk to the flying public justifies waiving notice and comment prior to adoption of this rule because contaminated Halon 1211 gas has been used to fill certain portable fire extinguishers that are now likely to be installed in or carried on board aircraft. Contaminated Halon 1211 gas, when used against a fire, may have reduced fire suppression capabilities, endangering the safety of the aircraft and its occupants. In addition, extinguisher activation may release toxic fumes, possibly causing injury to aircraft occupants. Therefore, we determined that notice and opportunity for public comment before issuing this AD are impracticable and that good cause exists for making this amendment effective in less than 30 days.

Comments Invited

This AD is a final rule that involves requirements affecting flight safety, and we did not precede it by notice and opportunity for public comment. We invite you to send any written relevant data, views, or arguments about this AD. Send your comments to an address listed under the ADDRESSES section. Include “Docket No. FAA-2010-0126; Directorate Identifier 2010-NM-015-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

List of Subjects in 14 CFR Part 39

Air transportation, Aircraft, Aviation safety, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2010-04-16 SICLI (formerly General Incendie MAIP): Amendment 39-16209. Docket No. FAA-2010-0126; Directorate Identifier 2010-NM-015-AD.

Effective Date

(a) This airworthiness directive (AD) becomes effective March 8, 2010.

Affected ADs

(b) None.

Applicability

(c) This AD applies to Type H1-10 AIR Halon 1211 (BCF) portable fire extinguishers manufactured by SICLI, having part number (P/N) 1708337B4 and having any serial number listed in Table 1 of this AD. These fire extinguishers may be installed on (or carried or stowed on board) various airplanes and rotorcraft, certificated in any category, identified in but not limited to the airplanes and rotorcraft of the manufacturers included in Table 2 of this AD, all type-certificated models.

Table 1—Serial Numbers of Affected SICLI Fire Extinguishers, P/N 1708337B4
Serial Nos.
0843113 and 0843114.
0843329, 0843330 and 0843331.
0843333 through 0843339 inclusive (incl.).
0843341 through 0843350 incl.
0843352 through 0843358 incl.
0843360 through 0843369 incl.
0843372.
0843374 through 0843386 incl.
0843388.
0843390 through 0843407 incl.
0843409 through 0843464 incl.
0843466 through 0843468 incl.
0843470 and 0843471.
0843473.
0843475.
0843477.
0843479 through 0843487 incl.
0843489 through 0843522 incl.
0843524 through 0843552 incl.
0843554 through 0843561 incl.
0843563.
0843565 through 0843574 incl.
0843579 through 0843587 incl.
0843589 through 0843629 incl.
0843631 through 0843676 incl.
0843679 through 0843700 incl.
0843702 through 0843737 incl.
0843739 through 0843780 incl.
0843782 through 0843845 incl.
0843847 and 0843848.
0843850 through 0843856 incl.
0843858 through 0843861 incl.
0843863 through 0843878 incl.
0843879 through 0843902 incl.
0843904 through 0843934 incl.
0843936 through 0843951 incl.
0843953 through 0843957 incl.
0843959 through 0843969 incl.
0843971.
0843973 through 0843977 incl.
0843979 through 0843982 incl.
0843984, 0843985 and 0843986.
0843988 through 0844016 incl.
0844018 through 0844043 incl.
0844045 and 0844046.
0844048 and 0844049.
0844051 through 0844069 incl.
0844071 through 0844077 incl.
0844079 through 0844109 incl.
0844111 and 0844112.
0844115 through 0844119 incl.
0844121 through 0844125 incl.
0844127 through 0844161 incl.
0844163 through 0844190 incl.
0844192 and 0844193.
0844195.
0844197.
0844199 through 0844218 incl.
0844220 through 0844225 incl.
0844228 through 0844240 incl.
0844242 through 0844249 incl.
0844253 through 0844257 incl.
0844259 through 0844263 incl.
0844265 through 0844267 incl.
0844269 through 0844280 incl.
0844282 through 0844286 incl.
0844288 and 0844289.
0844291 through 0844303 incl.
0844305 through 0844317 incl.
0844319 through 0844332 incl.
0844334 through 0844337 incl.
0844339 through 0844376 incl.
0844379 through 0844398 incl.
0844400 and 0844401.
0844403 through 0844415 incl.
0844417 through 0844422 incl.
0844424 through 0844428 incl.
0844430 through 0844436 incl.
0844439 through 0844450 incl.
0844452 through 0844454 incl.
0844456 through 0844470 incl.
0844472 through 0844475 incl.
0844477 through 0844494 incl.
0844496 through 0844512 incl.
0844514 through 0844518 incl.
0844520 through 0844524 incl.
0844526.
0844528.
0844530.
0844534.
0844536 through 0844568 incl.
0844570 through 0844592 incl.
0844594 through 0844619 incl.
0844621 through 0844626 incl.
0844628 through 0844635 incl.
0844637 through 0844660 incl.
0844663 through 0844666 incl.
0844668.
0844670 through 0844673 incl.
0844676 through 0844685 incl.
0844687 through 0844692 incl.
0844694 through 0844702 incl.
0844704 through 0844708 incl.
0844710 through 0844723 incl.
0844725 through 0844730 incl.
0844732 through 0844741 incl.
0844743 through 0844747 incl.
0844749 through 0844771 incl.
0844773 through 0844778 incl.
0844781 through 0844792 incl.
0844794 through 0844801 incl.
0844803 through 0844837 incl.

Table 2—Affected Airplanes and Rotorcraft
Manufacturer
Airbus.
ATR—GIE Avions de Transport Régional.
The Boeing Company.
Bombardier, Inc.
Cessna Aircraft Company.
Dassault-Aviation.
Empresa Brasileira de Aeronautica S.A. (EMBRAER).
Eurocopter Canada Limited.
Eurocopter Deutschland GMBH (ECD).
Eurocopter France.
McDonnell Douglas Corporation.

Subject

(d) Air Transport Association (ATA) of America Code 26: Fire Protection.

Reason

(e) The mandatory continuing airworthiness information (MCAI) states:

The Civil Aviation Authority of the United Kingdom (UK) has informed EASA [European Aviation Safety Agency] that significant quantities of Halon 1211 gas, determined to be outside the required specification, have been supplied to the aviation industry for use in fire extinguishing equipment. Halon 1211 (BCF) is used in portable fire extinguishers, usually fitted or stowed in aircraft passenger cabins and flight decks.

EASA published Safety Information Bulletin (SIB) 2009-39 on 23 October 2009 to make the aviation community aware of this safety concern.

The results of the ongoing investigation have now established that LyonTech Engineering Ltd, a UK-based company, has supplied further consignments of Halon 1211 (BCF) to SICLI that do not meet the required specification. This Halon 1211 has subsequently been used to fill P/N [part number] 1708337B4 portable fire extinguishers that are now likely to be installed in or carried on board aircraft.

The contaminated nature of this gas, when used against a fire, may provide reduced fire suppression, endangering the safety of the aircraft and its occupants. In addition, extinguisher activation may lead to release of toxic fumes, possibly causing injury to aircraft occupants.

For the reason described above, this EASA AD requires the identification and removal from service of certain batches of fire extinguishers and replacement with serviceable units.

Compliance

(f) You are responsible for having the actions required by this AD performed within the compliance times specified, unless the actions have already been done.

Actions

(g) Within 90 days after the effective date of this AD, replace all Type H1-10 AIR Halon 1211 (BCF) portable fire extinguishers manufactured by SICLI, having P/N 1708337B4 and having any serial number listed in Table 1 of this AD, with serviceable fire extinguishers.

(h) Within 90 days after doing any replacement required by paragraph (g) of this AD, return the affected fire extinguisher to: SICLI, ZI la Saunière, 89600 Saint Florentin, France; telephone: +33 (0)3 8643 7930; fax: +33 (0)3 8635 3632; e-mail jerome.villette@sicli.com; Web site: http://www.sicli.com.

(i) As of the effective date of this AD, do not install any SICLI fire extinguisher having P/N 1708337B4 and a serial number listed in Table 1 of this AD, on any airplane or rotorcraft.

FAA AD Differences

Note 1: This AD differs from the MCAI and/or service information as follows:

(1) EASA AD 2009-0278, dated December 22, 2009, specifies a time of 30 days to do the actions. This AD requires that the actions be done within 90 days. We have determined that a 90-day compliance time will ensure an acceptable level of safety.

(2) EASA AD 2009-0278 includes fire extinguishers having certain serial numbers in its applicability. The EASA AD also includes a requirement to inspect to determine if the fire extinguishers have those serial numbers and replacement if necessary. Since the affected fire extinguishers are part of the applicability, it is not necessary to also require inspecting for them. Therefore, this AD includes fire extinguishers having certain serial numbers in its applicability and does not include an additional requirement to inspect for serial numbers; this AD requires replacement of all affected fire extinguishers.

Other FAA AD Provisions

(j) The following provisions also apply to this AD:

(1) Alternative Methods of Compliance (AMOCs): The manager of the office having certificate responsibility for the affected product has the authority to approve AMOCs for this AD, if requested using the procedures found in 14 CFR 39.19. Before using any approved AMOC on any aircraft to which the AMOC applies, notify your principal maintenance inspector (PMI) or principal avionics inspector (PAI), as appropriate, or lacking a principal inspector, your local Flight Standards District Office. The AMOC approval letter must specifically reference this AD.

(i) For transport airplanes: Send information to ATTN: Dan Rodina, Aerospace Engineer, International Branch, ANM-116, Transport Airplane Directorate, FAA, 1601 Lind Avenue, SW., Renton, Washington 98057-3356; telephone (425) 227-2125; fax (425) 227-1149.

(ii) For small airplanes: Send information to ATTN: Leslie B. Taylor, Aerospace Engineer, Standards Staff, Small Airplane Directorate, FAA, 901 Locust Street, Room 301, Kansas City, MO 64106; telephone (816) 329-4134; fax (816) 329-4090.

(iii) For rotorcraft: Send information to ATTN: DOT/FAA Southwest Region, J.R. Holton, Jr., ASW-112, Aviation Safety Engineer, Rotorcraft Directorate, Safety Management Group, 2601 Meacham Blvd., Fort Worth, TX 76137; telephone (817) 222-4964; fax (817) 222-5961.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et seq.), the Office of Management and Budget (OMB) has approved the information collection requirements and has assigned OMB Control Number 2120-0056.

Related Information

(k) Refer to MCAI EASA Airworthiness Directive 2010-0278, dated December 22, 2009, for related information.

Material Incorporated by Reference

(l) None.

Issued in Washington, DC, on February 4, 2010.
Kalene C. Yanamura,
Acting Director, Aircraft Certification Service.

[FR Doc. 2010-3223 Filed 2-18-10; 8:45 am]

BILLING CODE 4910-13-P